DEPARTMENT OF HOMELAND SECURITY

Federal Emergency Management Agency

[Docket ID FEMA-2021-0002; Internal Agency Docket No. FEMA-B-2176]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

State and county | Location and case No. | Chief executive officer of community | Community map repository | Online location of letter of map revision | Date of modification | Community No.
Arizona: Pinal | Town of Florence (21-09-0464P) | The Honorable Tara Walter, Mayor, Town of Florence, P.O. Box 2670, Florence, AZ 85132 | Public Works Department, 224 West 20th Street, Florence, AZ 85132 | https://msc.fema.gov/portal/advanceSearch | Jan. 14, 2022 | 040084
California:
Butte | City of Gridley (20-09-0709P) | The Honorable Bruce Johnson, Mayor, City of Gridley, 685 Kentucky Street, Gridley, CA 95948 | Public Works Department, 853 Laurel Street, Gridley, CA 95948 | https://msc.fema.gov/portal/advanceSearch | Jan. 31, 2022 | 060019
Butte | Unincorporated Areas of Butte County (20-09-0709P) | The Honorable Bill Connelly, Chairman, Board of Supervisors, Butte County, 25 County Center Drive, Suite 200, Oroville, CA 95965 | Butte County Department of Public Works, 7 County Center Drive, Oroville, CA 95965 | https://msc.fema.gov/portal/advanceSearch | Jan. 31, 2022 | 060017
Riverside | City of Menifee (21-09-0711P) | The Honorable Bill Zimmerman, Mayor, City of Menifee, 29844 Haun Road, Menifee, CA 92586 | Public Works and Engineering Department, 29714 Haun Road, Menifee, CA 92586 | https://msc.fema.gov/portal/advanceSearch | Jan. 24, 2022 | 060176
Riverside | City of Perris (21-09-0711P) | The Honorable Michael Vargas, Mayor, City of Perris, 101 North D Street, Perris, CA 92570 | Engineering Department, 24 South D Street, Suite 100, Perris, CA 92570 | https://msc.fema.gov/portal/advanceSearch | Jan. 24, 2022 | 060258
San Diego | Unincorporated Areas of San Diego County (21-09-0926P) | The Honorable Nathan Fletcher, Chairman, Board of Supervisors, San Diego County, 1600 Pacific Highway, Room 335, San Diego, CA 92101 | San Diego County Flood Control District, Department of Public Works, 5510 Overland Avenue, Suite 410, San Diego, CA 92123 | https://msc.fema.gov/portal/advanceSearch | Dec. 27, 2021 | 060284
San Luis Obispo | City of San Luis Obispo (21-09-0731P) | The Honorable Heidi Harmon, Mayor, City of San Luis Obispo, 990 Palm Street, San Luis Obispo, CA 93401 | City Hall, 990 Palm Street, San Luis Obispo, CA 93401 | https://msc.fema.gov/portal/advanceSearch | Dec. 23, 2021 | 060310
Colorado:
Larimer | Town of Berthoud (21-08-0181P) | The Honorable William Karspeck, Mayor, Town of Berthoud, P.O. Box 1229, Berthoud, CO 80513 | Town Hall, 807 Mountain Avenue, Berthoud, CO 80513 | https://msc.fema.gov/portal/advanceSearch | Dec. 22, 2021 | 080296
Larimer | Unincorporated Areas of Larimer County (21-08-0181P) | Mr. John Kefalas, Chair, Larimer County, 200 West Oak Street, Fort Collins, CO 80521 | Larimer Courthouse Offices Building, 200 West Oak Street, Suite 3000, Fort Collins, CO 80521 | https://msc.fema.gov/portal/advanceSearch | Dec. 22, 2021 | 080101
Summit | Town of Breckenridge (21-08-0179P) | The Honorable Eric Mamula, Mayor, Town of Breckenridge, P.O. Box 168, Breckenridge, CO 80424 | Public Works, 1095 Airport Road, Breckenridge, CO 80424 | https://msc.fema.gov/portal/advanceSearch | Dec. 27, 2021 | 080172
Summit | Unincorporated Areas of Summit County (21-08-0179P) | Ms. Elizabeth Lawrence, District 1 Commissioner Summit County, Board of County Commissioners, P.O. Box 68, Breckenridge, CO 80424 | Summit County Commons, 0037 Peak One Drive, Frisco, CO 80443 | https://msc.fema.gov/portal/advanceSearch | Dec. 27, 2021 | 080290
Florida:
Duval | City of Jacksonville (20-04-3087P) | The Honorable Lenny Curry, Mayor, City of Jacksonville, City Hall at St. James, 117 West Duval Street, Suite 400, Jacksonville, FL 32202 | Edward Ball Building Development Services, Room 2100, 214 North Hogan Street, Jacksonville, FL 32202 | https://msc.fema.gov/portal/advanceSearch | Jan. 13, 2022 | 120077
Flagler | City of Bunnell (21-04-0706P) | The Honorable Catherine Robinson, Mayor, City of Bunnell, P.O. Box 756, Bunnell, FL 32110 | City Hall, 200 South Church Street, Bunnell, FL 32110 | https://msc.fema.gov/portal/advanceSearch | Jan. 27, 2022 | 120086
Flagler | City of Palm Coast (21-04-0706P) | The Honorable David Alfin, Mayor, City of Palm Coast, 160 Lake Avenue, Palm Coast, FL 32164 | City Hall, 2 Commerce Boulevard, Palm Coast, FL 32164 | https://msc.fema.gov/portal/advanceSearch | Jan. 27, 2022 | 120684
Minnesota: Washington | City of Hugo (21-05-0119P) | The Honorable Tom Weidt, Mayor, City of Hugo, City Hall, 14669 Fitzgerald Avenue North, Hugo, MN 55038 | City Hall, 14669 Fitzgerald Avenue North, Hugo, MN 55038 | https://msc.fema.gov/portal/advanceSearch | Jan. 21, 2022 | 270504
Missouri:
Howell | City of Willow Springs (21-07-0432P) | The Honorable Brooke Fair, Mayor, City of Willow Springs, City Hall, P.O. Box 190, Willow Springs, MO 65793 | City Hall, 900 West Main Street, Willow Springs, MO 65793 | https://msc.fema.gov/portal/advanceSearch | Dec. 16, 2021 | 290167
Howell | Unincorporated Areas of Howell County (21-07-0432P) | Mr. Mark Collins, County Commissioner, Howell County, 35 Court Square, West Plains, MO 65775 | Howell County Surveyor's Office, 1390 Bill Virdon Boulevard, West Plains, MO 65775 | https://msc.fema.gov/portal/advanceSearch | Dec. 16, 2021 | 290806
Nevada: Clark | Unincorporated Areas of Clark County (21-09-0231P) | The Honorable Marilyn Kirkpatrick, Chair, Board of Commissioners, Clark County, 500 South Grand Central Parkway, 6th Floor, Las Vegas, NV 89155 | Clark County, Office of the Director of Public Works, 500 South Grand Central Parkway, 2nd Floor, Las Vegas, NV 89155 | https://msc.fema.gov/portal/advanceSearch | Dec. 27, 2021 | 320003
Texas: Tarrant | City of Haslet (20-06-3134P) | The Honorable Gary Hulsey, Mayor, City of Haslet, 101 Main Street, Haslet, TX 76052 | City Hall, 101 Main Street, Haslet, TX 76052 | https://msc.fema.gov/portal/advanceSearch | Feb. 4, 2022 | 480600
Wisconsin:
Brown | Unincorporated Areas of Brown County (21-05-0179P) | Mr. Patrick Buckley, Chair, Board of Supervisors District 11, Brown County, P.O. Box 23600, Green Bay, WI 54305 | Brown County, Zoning Office, 305 East Walnut Street, Green Bay, WI 54305 | https://msc.fema.gov/portal/advanceSearch | Dec. 27, 2021 | 550020
Washington | Village of Richfield (21-05-1969P) | Mr. John Jeffords, Village President, Village of Richfield, Village Hall, 4128 Hubertus Road, Hubertus, WI 53033 | Village Hall, 4128 Hubertus Road, Hubertus, WI 53033 | https://msc.fema.gov/portal/advanceSearch | Jan. 14, 2022 | 550518

[FR Doc. 2021-23239 Filed 10-25-21; 8:45 am]

BILLING CODE 9110-12-P